NATIONAL AERONAUTICS AND SPACE ADMINISTRATION

48 CFR Parts 1817 and 1852

RIN 2700-AE28

Removal of Outdated and Duplicative Guidance (2016-N010)

AGENCY: National Aeronautics and Space Administration.

ACTION: Final rule.

SUMMARY: National Aeronautics and Space Administration (NASA) is issuing a final rule amending the NASA FAR Supplement (NFS) to remove duplicative language of the FAR and superseded NFS guidance. The revision is part of NASA's retrospective plan under Executive Order (E.O.) 13563 completed in August 2011.

DATES: Effective: July 20, 2016.

FOR FURTHER INFORMATION CONTACT: Mr. Manuel Quinones, telephone (202) 358-2143.

SUPPLEMENTARY INFORMATION:

I. Background

NASA published a proposed rule in the Federal Register at 81 FR 17124 on March 28, 2016, to remove duplicative language of the FAR and superseded NFS guidance. This rule removes from the Code of Federal Regulations (CFR) those portions of the NFS containing information that consists of internal Agency administrative procedures and guidance that does not control the relationship between NASA and contractors or prospective contractors. Additionally, NASA identified a number of NFS parts and sections to be (1) deleted because of its duplication of the FAR or (2) relocated as internal Agency operating procedures to a NASA maintained Web site available on the internet at http://www.hq.nasa.gov/office/procurement/regs/nfstoc.htm. No public comments were received in response to the proposed rule.

II. Executive Orders 12866 and 13563

Executive Orders (E.O.s) 12866 and 13563 direct agencies to assess all costs and benefits of available regulatory alternatives and, if regulation is necessary, to select regulatory approaches that maximize net benefits (including potential economic, environmental, public health, and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

NASA certifies that this final rule will not have a significant economic impact on a substantial number of small entities within the meaning of the Regulatory Flexibility Act, 5 U.S.C. 601, et seq., because this rule removes from the CFR only information that is either considered internal Agency administrative procedures or extraneous provisions or clauses that were invalidated by previous final rules.

IV. Paperwork Reduction Act

The rule does not contain any information collection requirements that require the approval of the Office of Management and Budget under the Paperwork Reduction Act (44 U.S.C. chapter 35).

List of Subjects in 48 CFR Parts 1817 and 1852

Government procurement.

Manuel Quinones,
NASA FAR Supplement Manager.

Accordingly, 48 CFR parts 1817 and 1852 are amended as follows:

1. The authority citation for parts 1817 and 1852 continues to read as follows:

Authority: 51 U.S.C. 20113(a) and 48 CFR chapter 1.

PART 1817—SPECIAL CONTRACTING METHODS

1817.200 and 1817.204 [Removed]

2. Remove sections 1817.200 and 1817.204.

PART 1852—SOLICITATION PROVISIONS AND CONTRACT CLAUSES

1852.210-70, 1852.212-70, and 1852.212-74 [Removed]

3. Remove sections 1852.210-70, 1852.212-70, and 1852.212-74.

[FR Doc. 2016-14460 Filed 6-17-16; 8:45 am]

BILLING CODE 7510-01-P